UNITED STATES ARCTIC RESEARCH COMMISSION

102nd Commission Meeting

Notice is hereby given that the U.S. Arctic Research Commission will hold its 102nd meeting in Anchorage, Alaska, on September 15-16, 2014. The business sessions, open to the public, will convene at 1:30 p.m. on September 15 and 8:30 a.m. on September 16.

The Agenda items include:

(1) Call to order and approval of the agenda

(2) Approval of the minutes from the 101st meeting

(3) Commissioners and staff reports

(4) Discussion and presentations concerning Arctic research activities

The focus of the meeting will be Arctic research activities in Anchorage, as well as reports and updates on other programs and research projects affecting the Arctic.

If you plan to attend this meeting, please notify us via the contact information below. Any person planning to attend who requires special accessibility features and/or auxiliary aids, such as sign language interpreters, must inform the Commission of those needs in advance of the meeting.

Contact person for further information: John Farrell, Executive Director, U.S. Arctic Research Commission, 703-525-0111 or TDD 703-306-0090.

Dated: August 13, 2014.
John Farrell,
Executive Director.

[FR Doc. 2014-19643 Filed 8-19-14; 8:45 am]

BILLING CODE 7555-01-M